DEPARTMENT OF TRANSPORTATION

Federal Aviation Administration

14 CFR Part 39

[Docket No. FAA-2005-22404; Directorate Identifier 2005-NM-018-AD; Amendment 39-14268; AD 2005-19-03]

RIN 2120-AA64

Airworthiness Directives; BAe Systems (Operations) Limited Model ATP Airplanes

AGENCY: Federal Aviation Administration (FAA), Department of Transportation (DOT).

ACTION: Final rule; correction.

SUMMARY: The FAA is correcting a typographical error in an existing airworthiness directive (AD) that was published in the Federal Register on September 13, 2005 (70 FR 53915). The error resulted in an incorrect Docket No. This AD applies to all BAe Systems (Operations) Limited Model ATP airplanes. This AD requires revising the Airworthiness Limitations Section of the Instructions for Continued Airworthiness to incorporate life limits for certain items and new inspections to detect fatigue cracking in certain structures and of certain significant structural items, and to revise life limits for certain equipment and various components.

DATES: Effective September 28, 2005.

ADDRESSES: The AD docket contains the proposed AD, comments, and any final disposition. You may examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2005-22404; the directorate identifier for this docket is 2005-NM-018-AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: On September 6, 2005, the FAA issued AD 2005-19-03, amendment 39-14268 (70 FR 53915, September 13, 2005), for all BAe Systems (Operations) Limited Model ATP airplanes. The AD requires revising the Airworthiness Limitations Section of the Instructions for Continued Airworthiness to incorporate life limits for certain items and new inspections to detect fatigue cracking in certain structures and of certain significant structural items, and to revise life limits for certain equipment and various components.

As published, that AD specifies an incorrect Docket No. (i.e., FAA-2005-20404) throughout preamble and the regulatory text of the AD. The correct Docket No. is FAA-2005-22404.

No other part of the regulatory information has been changed; therefore, the final rule is not republished in the Federal Register.

The effective date of this AD remains September 28, 2005.

§ 39.13 [Corrected]

In the Federal Register of September 13, 2005, on page 53916, in the third column, paragraph 2. of PART 39—AIRWORTHINESS DIRECTIVES of AD 2005-19-03 is corrected to read as follows:

* * * * *

2005-19-03 BAe Systems (Operations) Limited (Formerly British Aerospace Regional Aircraft): Amendment 39-14268. Docket No. FAA-2005-22404; Directorate Identifier 2005-NM-018-AD.

* * * * *

Issued in Renton, Washington, on September 26, 2005.
Ali Bahrami,
Manager, Transport Airplane Directorate, Aircraft Certification Service.

[FR Doc. 05-19554 Filed 9-29-05; 8:45 am]

BILLING CODE 4910-13-P